DEPARTMENT OF THE INTERIOR

Bureau of Land Management

[LLNMF010000 L13100000.PP0000 212L1109AF]

Notice of Public Meeting, Northern New Mexico Resource Advisory Council, New Mexico

AGENCY: Bureau of Land Management, Interior.

ACTION: Notice of public meeting.

SUMMARY: In accordance with the Federal Land Policy and Management Act of 1976 and the Federal Advisory Committee Act of 1972, the U.S. Department of the Interior, Bureau of Land Management (BLM) Northern New Mexico Resource Advisory Council (RAC) will meet as indicated below.

DATES: Due to public health restrictions, the RAC will meet virtually on January 19, 2021, from 9:00 a.m. to 3:45 p.m. MST. To register to participate virtually in the RAC meeting, please visit: https://blm.zoomgov.com/j/1607413707?pwd=SEtMTlFhTGNMdW94cWl6cVV4QjlVUT09.

ADDRESSES: The meeting will be held via the Zoom Webinar Platform.

Written comments may be submitted in advance of the meeting to the BLM address listed below or via email to jgaragon@bmm.gov. Please include “RAC Comment” in your submission.

FOR FURTHER INFORMATION, CONTACT: Jillian Aragon, Farmington District Office, Bureau of Land Management, 6251 College Boulevard, Suite A, Farmington, New Mexico 87402; 505-564-7722; jgaragon@blm.gov. Persons who use a telecommunications device for the deaf (TDD) may call the Federal Relay Service (FRS) at 1-800-877-8229 to contact the above individual during normal business hours. The FRS is available 24 hours a day, 7 days a week, to leave a message or question with the above individual. You will receive a reply during normal business hours.

SUPPLEMENTARY INFORMATION: The 12-member Northern New Mexico RAC advises the Secretary of the Interior, through the BLM, on a variety of planning and management issues associated with public land management in the RAC's area of jurisdiction.

Planned agenda items include: member training; nominations of Chair and Vice Chair; an overview of the BLM Farmington, Taos, and Rio Puerco Field Offices major actions; and the Federal Lands Recreation Enhancement Act and updates from the U.S. Forest Service (USFS) for the Cibola and Santa Fe National Forests. In addition, the USFS would like to seek recommendations for two site fee proposals for the Aldo Leopold House and Amole Canyon Group Shelter in the Carson National Forest. The final agenda will be available online two weeks prior to the meeting at https://www.blm.gov/get-involved/resource-advisory-council/near-you/new-mexico/northern-rac.

Public Comment Procedures

The BLM welcomes comments from all interested parties. There will be a half-hour public comment period in the afternoon for any interested members of the public who wish to address the RAC. Depending on the number of persons wishing to speak and time available, the time for individual comments may be limited.

Authority: 43 CFR 1784.4-2.

Alfred M. Elser,
BLM Farmington District Manager.

[FR Doc. 2020-27447 Filed 12-11-20; 8:45 am]

BILLING CODE 4310-FB-P